DEPARTMENT OF TRANSPORTATION

Coast Guard

[USCG-2002-13380]

National Offshore Safety Advisory Committee

AGENCY: Coast Guard, DOT.

ACTION: Notice of meetings.

SUMMARY: The National Offshore Safety Advisory Committee (NOSAC) and its Liftboat Subcommittee will meet to discuss various issues relating to offshore safety. Both meetings will be open to the public.

DATES: NOSAC will meet on Thursday, November 7, 2002, from 9 a.m. to 3 p.m. The Liftboat Subcommittee will meet on Wednesday, November 6, 2002, from 1 p.m. to 3:30 p.m. These meetings may close early if all business is finished. Written material and requests to make oral presentations should reach the Coast Guard on or before October 24, 2002. Requests to have a copy of your material distributed to each member of the committee should reach the Coast Guard on or before October 24, 2002.

ADDRESSES: NOSAC will meet in the West Alabama Room, of the Westin Galleria & Westin Oaks Hotel, 5060 West Alabama, Houston, Texas. The Liftboat Subcommittee will meet in the Royal Room of the same hotel. Send written material and requests to make oral presentations to Captain M.W. Brown, Executive Director of NOSAC, Commandant (G-MSO), U.S. Coast Guard Headquarters, 2100 Second Street SW, Washington, DC 20593-0001. This notice is available on the Internet at http://dms.dot.gov.

FOR FURTHER INFORMATION CONTACT: Captain M.W. Brown, Executive Director of NOSAC, or Mr. Jim Magill, Assistant to the Executive Director, telephone 202-267-0214, fax 202-267-4570.

SUPPLEMENTARY INFORMATION: Notice of these meetings is given under the Federal Advisory Committee Act, 5 U.S.C. App. 2.

Agenda of Meetings

National Offshore Safety Advisory Committee. The agenda includes the following:

(1) Report on issues concerning the International Maritime Organization and the International Organization for Standardization.

(2) Report from Liftboat Subcommittee.

(3) Report from Offshore Security Subcommittee.

(4) Report from Task Force on development and implementation of the Standards of Training, Certification and Watchkeeping for Seafarers (STCW) Convention for offshore supply vessels (OSVs).

(5) Progress report from the Subcommittee on Pipeline-Free Anchorages.

(6) Revision of 33 CFR subchapter N.

(7) Status report on Coast Guard/Minerals Management Service Inspection of Fixed Facilities.

(8) MMS/USCG discussion on guarding of temporary deck openings.

Liftboat Subcommittee. The agenda includes the following:

(1) Review and discuss previous work.

(2)Work on outline of Draft Report.

Procedural

Both meetings are open to the public. Please note that the meetings may close early if all business is finished. At the Chair's discretion, members of the public may make oral presentations during the meetings. If you would like to make an oral presentation at a meeting, please notify the Executive Director no later than October 24, 2002. Written material for distribution at a meeting should reach the Coast Guard no later than October 24, 2002. If you would like a copy of your material distributed to each member of the committee or subcommittee in advance of the meeting, please submit 25 copies to the Executive Director (see ADDRESSES) no later than October 24, 2002.

Information on Services for Individuals with Disabilities

For information on facilities or services for individuals with disabilities or to request special assistance at the meetings, telephone the Executive Director at 202 267-0214 as soon as possible.

Dated: September 18, 2002.
Joseph J. Angelo,
Director of Standards, Marine Safety, Security and Environmental Protection.

[FR Doc. 02-24218 Filed 9-23-02; 8:45 am]

BILLING CODE 4910-15-P